DEPARTMENT OF HOMELAND SECURITY

Coast Guard

33 CFR Part 117

[Docket No. USCG-2012-0578]

Drawbridge Operation Regulation; Three Mile Slough, Rio Vista, CA

AGENCY: Coast Guard, DHS.

ACTION: Notice of temporary deviation from regulations.

SUMMARY: The Coast Guard has issued a temporary deviation from the operating regulation that governs the Hwy 160 drawbridge across Three Mile Slough, mile 0.1, at Rio Vista, CA. The deviation is necessary to allow California Department of Transportation to install electrical equipment on the drawbridge. This deviation allows the vertical lift drawspan to be secured closed to navigation at various times during the project.

DATES: This deviation is effective from 8 p.m. July 9, 2012 to 5 a.m. July 12, 2012.

ADDRESSES: Documents mentioned in this preamble as being available in the docket are part of the docket USCG-2012-0578 and are available online by going to http://www.regulations.gov, inserting USCG-2012-0578 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email David H. Sulouff, Chief, Bridge Section, Eleventh Coast Guard District; telephone 510-437-3516, email David.H.Sulouff@uscg.mil. If you have questions on viewing the docket, call Renee V. Wright, Program Manager, Docket Operations, telephone 202-366-9826.

SUPPLEMENTARY INFORMATION: The California Department of Transportation has requested a temporary change to the operation of the Hwy 160 drawbridge across Three Mile Slough, mile 0.1, at Rio Vista, CA. The drawbridge navigation span provides a vertical clearance of 12 feet above Mean High Water in the closed-to-navigation position. The draw opens on signal for the passage of vessels as required by 33 CFR 117.5. Navigation on the waterway is commercial and recreational.

The vertical lift drawspan may be secured in the closed-to-navigation position from 8 p.m. to 5 a.m., July 9, 2012 to July 12, 2012, to allow Caltrans to install electrical equipment on the drawbridge. Vessels that can pass through the bridge in the closed to navigation position may continue to do so at any time. The drawspan can be opened upon one hour advance notice for emergencies if requested. An alternative path is available for navigation via the confluence of the Sacrament and San Joaquin Rivers. The drawspan will resume normal operation each day between 5 a.m. and 8 p.m. and at the conclusion of the project. This temporary deviation has been coordinated with waterway users. No objections to the proposed temporary deviation were raised.

In accordance with 33 CFR 117.35(e), the drawbridge must return to its regular operating schedule immediately at the end of the designated time period. This deviation from the operating regulations is authorized under 33 CFR 117.35.

Dated: June 14, 2012.
D.H. Sulouff,
District Bridge Chief, Eleventh Coast Guard District.

[FR Doc. 2012-15818 Filed 6-27-12; 8:45 am]

BILLING CODE 9110-04-P